FEDERAL DEPOSIT INSURANCE CORPORATION

Agency Information Collection Activities: Proposed Collection Renewal; Comment Request (OMB No. 3064-0006; -0015; -0019; and -0097)

AGENCY: Federal Deposit Insurance Corporation (FDIC).

ACTION: Notice and request for comment.

SUMMARY: The FDIC, as part of its continuing effort to reduce paperwork and respondent burden, invites the general public and other Federal agencies to take this opportunity to comment on the renewal of the existing information collection, as required by the Paperwork Reduction Act of 1995. On March 1, 2018, the FDIC requested comment for 60 days on a proposal to renew the information collections described below. No comments were received. The FDIC hereby gives notice of its plan to submit to OMB a request to approve the renewal of these collections, and again invites comment on these renewals.

DATES: Comments must be submitted on or before June 11, 2018.

ADDRESSES: Interested parties are invited to submit written comments to the FDIC by any of the following methods:

• Agency Website: https://www.FDIC.gov/regulations/laws/federal. Follow the instructions for submitting comments on the FDIC website.

• Email: comments@fdic.gov. Include the name and number of the collection in the subject line of the message.

• Mail: Manny Cabeza (202-898-3767), Counsel, MB-3007, Federal Deposit Insurance Corporation, 550 17th Street NW, Washington, DC 20429.

• Hand Delivery: Comments may be hand-delivered to the guard station at the rear of the 17th Street Building (located on F Street), on business days between 7:00 a.m. and 5:00 p.m.

All comments should refer to the applicable OMB control number. A copy of the comments may also be submitted to the OMB desk officer for the FDIC: Office of Information and Regulatory Affairs, Office of Management and Budget, New Executive Office Building, Washington, DC 20503.

FOR FURTHER INFORMATION CONTACT: Manny Cabeza, Counsel, 202-898-3767, mcabeza@FDIC.gov, MB-3007, Federal Deposit Insurance Corporation, 550 17th Street NW, Washington, DC 20429.

SUPPLEMENTARY INFORMATION: The FDIC proposes to implement a number of revisions to currently-approved information collections, based on the recommendations of an interagency working group comprised of representatives from the FDIC, the Board of Governors of the Federal Reserve System, and the Office of the Comptroller of the Currency, who collaborated to recommend the proposed changes. The proposed changes are being made to: (a) Improve the clarity of the requests; (b) reflect new laws, regulations, capital requirements and accounting rules; (c) delete information requests that have been determined to be unnecessary for the analysis of the filing; and (d) add transparency for filers regarding the information that is required to consider a filing. In determining which changes to propose, the FDIC surveyed its regional offices to solicit recommendations for changes to the forms and considered the effects of the changes on community bank organizations, which represent the majority of filers. The revisions add items to these forms to clarify the information being requested to avoid the need for follow-up requests. Requesting the information up-front should increase transparency for filers as well as improve the efficiency of the submission and review process.

The FDIC is proposing to revise and request a three-year extension of the following currently-approved collections of information:

1. Title: Interagency Biographical and Financial Report.

OMB Number: 3064-0006.

Type: Revision of a currently approved collection.

Form: Interagency Biographical and Financial Report.

Form Number: 6200/06.

Affected Public: Individuals or households; business or other for profit; Insured state nonmember banks and state savings associations.

Estimated Number of Annual Respondents: 574.

Estimated Time per Response: 4.5 hours.

Frequency of Response: On occasion.

Estimated Total Annual Burden: 2,583 hours.

General Description of Collection: The Interagency Biographical and Financial Report is submitted to the FDIC by: (1) Each individual director, officer, or individual or group of shareholders acting in concert that will own or control 10 percent or more, of a proposed or operating depository institution applying for FDIC deposit insurance; (2) a person proposing to acquire control of an insured state nonmember bank, state savings association (FDIC-supervised institution) and certain parent companies of such entities; (3) each proposed new director or proposed new chief executive officer of an FDIC-supervised institution which has undergone a change in control within the preceding twelve months; and (4) each proposed new director or senior executive officer of an FDIC-supervised institution that is not in compliance with all minimum capital requirements, is in troubled condition, or otherwise is required to provide such notice. The information collected is used by the FDIC to evaluate the general character and financial condition of individuals who will be involved in the management or control of financial institutions, as required by statute. In order to lessen the burden on applicants, the FDIC cooperates with the other federal banking agencies to the maximum extent possible in processing the various applications.

Proposed Revisions: The proposed changes for the Interagency Biographical and Financial Report include additional requested items relating to information that generally was previously requested as supplemental information subsequent to the filing of the initial application; clarification of exact requirements of certain requests; deletion of certain requested items that the FDIC no longer believes are helpful in evaluating the notice; and other minor changes for improved grammar, comprehension, and accurate citations and mailing addresses. Because a filer may require some additional time to incorporate supplemental documentation, particularly in connection with the requested description of pending legal and related matters, the FDIC estimates that the proposed revisions will result in an additional half an hour of reporting burden for each filer. Accordingly, the estimated time per response is being increased from 4 hours to 4.5 hours. The proposed revised “Interagency Biographical and Financial Report” form and a redlined version highlighting the proposed revisions from the currently-approved form may be reviewed by the public at https://www.FDIC.gov/regulations/laws/federal.

2. Title: Interagency Bank Merger Act Application.

OMB Number: 3064-0015.

Type: Revision of a currently approved collection.

Form: Interagency Bank Merger Act Application.

Form Number: 6220/01.

Affected Public: Individuals or households; business or other for profit.

Estimated Burden:

Estimated Burden
| Number of annual respondents | Frequency of response | Hours per response | Total estimated annual hours
Affiliate | 134 | On Occasion | 19 | 2,546
Nonaffiliate | 162 | On Occasion | 31 | 5,022
Total | 296 |  |  | 7,568

General Description of Collection: The Interagency Bank Merger Act Application form is used by the FDIC, the Board of Governors of the Federal Reserve System, and the Office of the Comptroller of the Currency for applications under section 18(c) of the Federal Deposit Insurance Act (FDIA), as amended (12 U.S.C. 1828(c)). The application is used for a merger, consolidation, or other combining transaction between nonaffiliated parties as well as to effect a corporate reorganization between affiliated parties (affiliate transaction). An affiliate transaction refers to a merger transaction or other business combination (including a purchase and assumption) between institutions that are commonly controlled (for example, between a depository institution and an affiliated interim institution). There are different levels of burden for nonaffiliate and affiliate transactions. Applicants proposing affiliate transactions are required to provide less information than applicants involved in the merger of two unaffiliated entities. If depository institutions are not controlled by the same holding company, the merger transaction is considered a nonaffiliate transaction.

Proposed Revisions: The proposed changes to the Interagency Bank Merger Act Application form include additional items relating to information that was previously requested as supplemental information subsequent to the filing of the initial application; clarification of certain requested items related to biographical and financial information for principals and to Community Reinvestment Act-related information; deletion of the request for cash flow projections for the parent company; updated requests to account for statutory considerations related to the effect of a transaction on the stability of the United States financial system; changes to capital requirements and accounting rules; and other minor changes to improve grammar and readability, provide accurate citations to authority, and update mailing addresses. As a result of the revisions described above, applicants may need to provide additional financial information, describe pending litigation and investigations, and summarize the effects of a proposed transaction on financial stability. For this reason, the FDIC estimates that the proposed revisions will result in an additional hour of burden for each applicant. Accordingly, the estimated times per response are being increased from 18 to 19 hours for affiliate transactions and 30 to 31 hours for nonaffiliate transactions. The proposed revised “Interagency Bank Merger Act Application” form and a redlined version highlighting the proposed revisions from the currently-approved form may be reviewed by the public at https://www.FDIC.gov/regulations/laws/federal.

3. Title: Interagency Notice of Change in Control.

OMB Number: 3064-0019.

Type: Revision of a currently approved collection.

Form: Interagency Notice of Change in Control.

Form Number: 6822/01.

Affected Public: Individuals, insured state nonmember banks, and insured state savings associations.

Estimated Number of Annual Respondents: 25.

Estimated Time per Response: 30.5 hours.

Frequency of Response: On occasion.

Estimated Total Annual Burden: 763 hours.

General Description of Collection: Section 7(j) of the FDIA (12 U.S.C. 1817(j)) and sections 303.80-88 of the FDIC Rules and Regulations (12 CFR 303.80 et seq.) require that any person proposing to acquire control of an insured depository institution and certain parent companies thereof provide 60 days prior written notice of the proposed acquisition to the appropriate federal banking agency. Such written notice which pertains to the acquisition of control of an FDIC-supervised institution and certain parent companies thereof is filed with the regional director of the FDIC region in which the bank is located. The FDIC reviews the information reported in the Notice to assess, in part, any anticompetitive and monopolistic effects of the proposed acquisition, to determine if the financial condition of any acquiring person or the future prospects of the institution might jeopardize the financial stability of the institution or prejudice the interests of the depositors of the institution, and to determine whether the competence, experience, or integrity of any acquiring person, or of any of the proposed management personnel, indicates that it would not be in the interest of the depositors of the institution, or in the interest of the public, to permit such persons to control the bank. The FDIC must also make an independent determination of the accuracy and completeness of all of the information required to be filed in conjunction with a Notice.

Proposed Revisions: The proposed changes for the Interagency Notice of Change in Control form include additional requested items relating to information that generally was previously requested as supplemental information subsequent to the filing of the initial application; clarification of exact requirements of certain requests; deletion of certain requested items that the FDIC no longer believes are helpful in evaluating the Notice; and other minor changes for improved grammar, comprehension, and accurate citations and mailing addresses. Because certain applicants may need additional time to complete the requested breakdowns of voting and nonvoting securities, and stock options and warrants that were previously requested by the agencies later in the process, and to include a narrative description of the proposed transaction, the FDIC estimates that the proposed revisions would require an additional half an hour of burden for each respondent. Accordingly, the estimated time per response is being increased from 30 hours to 30.5 hours. The proposed revised “Interagency Notice of Change in Control” form and a redlined version highlighting the proposed revisions from the currently-approved form may be reviewed by the public at https://www.FDIC.gov/regulations/laws/federal.

4. Title: Interagency Notice of Change in Director or Senior Executive Officer.

OMB Number: 3064-0097.

Type: Revision of a currently approved collection.

Form: Interagency Notice of Change in Director or Senior Executive Officer.

Form Number: 6822/02.

Affected Public: Insured state nonmember banks and state savings associations.

Estimated Number of Annual Respondents: 325.

Estimated Time per Response: 2 hours.

Frequency of Response: On occasion.

Estimated Total Annual Burden: 650 hours.

General Description of Collection: Section 32 of the FDIA (12 U.S.C. 1831i) requires an insured depository institution or depository institution holding company under certain circumstances to notify the appropriate federal banking agency of the proposed addition of any individual to the board of directors or the employment of any individual as a senior executive officer of such institution at least 30 days before such addition or employment becomes effective. Section 32 of the FDIA also provides that the FDIC may disapprove an individual's service as a director or senior executive officer of certain state nonmember banks or state savings associations if, upon assessing the individual's competence, experience, character, and integrity, it is determined that the individual's service would not be in the best interest of the depositors of the institution or the public. The Interagency Notice of Change in Director or Senior Executive Officer, with the information contained in the Interagency Biographical and Financial Report (described above) as an attachment, is used by the FDIC to collect information relevant to assess the individual's competence, experience, character, and integrity.

Proposed Revisions: The proposed changes for the Interagency Notice of Change in Director or Senior Executive Officer form include clarifications of existing information requested and exceptions to the extent they may be relied upon by applicants; deletion of certain formerly requested items that are no longer needed to evaluate the notice; and other minor changes for improved grammar, comprehension, and accurate citations and mailing addresses. The FDIC believes these revisions will not change the estimated time per response. The proposed revised “Interagency Notice of Change in Director or Senior Executive Officer” form and a redlined version highlighting the proposed revisions from the currently-approved form may be reviewed by the public at https://www.FDIC.gov/regulations/laws/federal.

Request for Comment

Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the collection of information on respondents, including through the use of automated collection techniques or other forms of information technology. All comments will become a matter of public record.

Dated at Washington, DC, on May 8, 2018.
Federal Deposit Insurance Corporation.
Robert E. Feldman,
Executive Secretary.

[FR Doc. 2018-10093 Filed 5-10-18; 8:45 am]

BILLING CODE 6714-01-P